DEPARTMENT OF HEALTH AND HUMAN SERVICES

Administration for Children and Families

State Median Income Estimates for a Four-Person Household: Notice of the Federal Fiscal Year (FFY) 2014 State Median Income Estimates for Use Under the Low Income Home Energy Assistance Program (LIHEAP)

AGENCY: Division of Energy Assistance, Office of Community Services; Administration for Children and Families; Health and Human Services.

ACTION: Notice of state median income estimates for FFY 2014.

SUMMARY: This notice announces to grantees of the Low Income Home Energy Assistance Program (LIHEAP) the estimated median income of four-person households in each state and the District of Columbia for FFY 2014 (October 1, 2013, to September 30, 2014). LIHEAP grantees that choose to base their income eligibility criteria on these state median income (SMI) estimates may adopt these estimates (up to 60 percent) on their date of publication in the Federal Register or on a later date as discussed in the “Dates” section. This enables grantees to implement this notice during the period between the heating and cooling seasons. However, by October 1, 2013, or the beginning of the grantee's fiscal year, whichever is later, such grantees must adjust their income eligibility criteria so that they are in accord with the FFY 2014 SMI.

Sixty percent of SMI provides one of the maximum income criteria that LIHEAP grantees may use in determining a household's income eligibility for LIHEAP.

DATES: Effective Date: These estimates become effective at any time between the date of this publication and the later of (1) October 1, 2013; or (2) the beginning of a grantee's fiscal year.

FOR FURTHER INFORMATION CONTACT: Peter Edelman, Office of Community Services, Division of Energy Assistance, 5th Floor West, 370 L'Enfant Promenade SW., Washington, DC 20447. Telephone: (202) 401-5292, E-Mail: peter.edelman@acf.hhs.gov.

SUPPLEMENTARY INFORMATION: Under the provisions of section 2603(11) of Title XXVI of the Omnibus Budget Reconciliation Act of 1981, Public Law 97-35, as amended, the Department of Health and Human Services (HHS) announces the estimated median income of four-person families for each state, the District of Columbia, and the United States for FFY 2014 (October 1, 2013, through September 30, 2014).

Section 2605(b)(2)(B)(ii) of this Act provides that 60 percent of the median income of four-person families for each state and the District of Columbia (state median income or SMI), as annually established by the Secretary of Health and Human Services, is one of the income criteria that LIHEAP grantees may use in determining a household's eligibility for LIHEAP.

LIHEAP was last authorized by the Energy Policy Act of 2005, Public Law 109-58, which was enacted on August 8, 2005. This authorization expired on September 30, 2007, and reauthorization remains pending.

The SMI estimates that HHS publishes in this notice are 3-year estimates derived from the American Community Survey (ACS) conducted by the U.S. Census Bureau, U.S. Department of Commerce (Census Bureau).

For additional information about the ACS state median income estimates, including the definition of income and the derivation of medians see http://www.census.gov/acs/www/Downloads/data_documentation/SubjectDefinitions/2011_ACSSubjectDefinitions.pdf under “Income in the Past 12 Months.” For additional information about the ACS 1-year and 3-year estimates, see http://www.census.gov/acs/www/guidance_for_data_users/estimates/. For additional information about the ACS in general, see http://www.census.gov/acs/www/ or contact the Census Bureau's Social, Economic, and Housing Statistics Division at (301) 763-3243.

The SMI estimates, like those derived from any survey, are subject to two types of errors:

(1) Non-sampling Error, which consists of random errors that increase the variability of the data and non-random errors that consistently shift the data in a specific direction; and

(2) Sampling Error, which consists of the error that arises from the use of probability sampling to create the sample. For additional information about the accuracy of the ACS SMI estimates, see http://www.census.gov/acs/www/Downloads/data_documentation/Accuracy/MultiyearACSAccuracyofData2011.pdf.

In the state-by-state listing of SMI and 60 percent of SMI for a four-person family for FFY 2014, LIHEAP grantees must regard “family” to be the equivalent of “household” with regards to setting their income eligibility criteria. This listing describes the method for adjusting SMI for households of different sizes, as specified in regulations applicable to LIHEAP (45 CFR 96.85(b)). These regulations were published in the Federal Register on March 3, 1988, (53 FR 6827) and amended on October 15, 1999 (64 FR 55858).

Dated: May 8, 2013.
Jeannie L. Chaffin,
Director, Office of Community Services.

Estimated State Median Income for Four-Person Families, by State, for Federal Fiscal Year (FFY) 2014, for Use in the Low Income Home Energy Assistance Program (LIHEAP)
States | Estimated state median income for four-person families ¹ | 60 percent of estimated state median income for four-person families², ³
Alabama | $64,899 | $38,939
Alaska | 87,726 | 52,636
Arizona | 64,434 | 38,660
Arkansas | 56,994 | 34,196
California | 77,679 | 46,607
Colorado | 84,431 | 50,659
Connecticut | 103,173 | 61,904
Delaware | 83,557 | 50,134
District of Columbia | 87,902 | 52,741
Florida | 65,406 | 39,244
Georgia | 67,401 | 40,441
Hawaii | 85,350 | 51,210
Idaho | 61,724 | 37,034
Illinois | 81,770 | 49,062
Indiana | 70,504 | 42,302
Iowa | 76,905 | 46,143
Kansas | 74,073 | 44,444
Kentucky | 65,968 | 39,581
Louisiana | 68,964 | 41,378
Maine | 74,481 | 44,689
Maryland | 105,348 | 63,209
Massachusetts | 102,773 | 61,664
Michigan | 73,354 | 44,012
Minnesota | 87,283 | 52,370
Mississippi | 57,662 | 34,597
Missouri | 70,896 | 42,538
Montana | 68,905 | 41,343
Nebraska | 74,484 | 44,690
Nevada | 69,475 | 41,685
New Hampshire | 94,838 | 56,903
New Jersey | 103,852 | 62,311
New Mexico | 57,353 | 34,412
New York | 83,648 | 50,189
North Carolina | 66,985 | 40,191
North Dakota | 82,605 | 49,563
Ohio | 73,924 | 44,354
Oklahoma | 63,580 | 38,148
Oregon | 69,573 | 41,744
Pennsylvania | 80,937 | 48,562
Rhode Island | 87,793 | 52,676
South Carolina | 62,965 | 37,779
South Dakota | 71,207 | 42,724
Tennessee | 64,042 | 38,425
Texas | 66,880 | 40,128
Utah | 68,017 | 40,810
Vermont | 81,408 | 48,845
Virginia | 90,109 | 54,065
Washington | 83,238 | 49,943
West Virginia | 63,863 | 38,318
Wisconsin | 79,141 | 47,485
Wyoming | 76,868 | 46,121
Note: FFY 2014 covers the period of October 1, 2013, through September 30, 2014. The estimated median income for four-person families living in the United States for this period is $75,845. Grantees that use SMI for LIHEAP may, at their option, employ such estimates at any time between the date of this publication and the later of October 1, 2013, or the beginning of their fiscal years.
¹ These figures were prepared by the U.S. Census Bureau, U.S. Department of Commerce (Census Bureau), from 3-year estimates from the 2009, 2010, and 2011 American Community Surveys (ACSs). These estimates, like those derived from any survey, are subject to two types of error: (1) Non-sampling Error, which consists of random errors that increase the variability of the data and non-random errors that consistently direct the data in a specific direction; and (2) Sampling Error, which consists of the error that arises from the use of probability sampling to create the sample.
² These figures were calculated by the U.S. Department of Health and Human Services, Administration for Children and Families, Office of Community Services, Division of Energy Assistance by multiplying the estimated state median income for a four-person family for each state by 60 percent.
³ To adjust for different sizes of households for LIHEAP purposes, 45 CFR 96.85 calls for multiplying 60 percent of a state's estimated median income for a four-person family by the following percentages: 52 percent for a one-person household, 68 percent for a two-person household, 84 percent for a three-person household, 100 percent for a four-person household, 116 percent for a five-person household, and 132 percent for a six-person household. For each additional household member above six people, 45 CFR 96.85 calls for adding 3 percentage points to the percentage for a six-person household (132 percent) and multiply the new percentage by 60 percent of the median income for a four-person family.

[FR Doc. 2013-11575 Filed 5-14-13; 8:45 am]

BILLING CODE 4184-24-P